DEPARTMENT OF THE INTERIOR

Bureau of Land Management

[AK-933-1410-ET; A-042420]

Public Land Order No. 7539; Partial Revocation of Public Land Order No. 2713, as Amended; Alaska

AGENCY: Bureau of Land Management, Interior.

ACTION: Public Land Order.

SUMMARY: This order revokes a public land order insofar as it affects 30 acres of public land withdrawn for air navigation purposes for the Federal Aviation Administration at Talkeetna, Alaska. The land is no longer needed for the purpose for which it was withdrawn. The land is also classified for conveyance to Cook Inlet Region, Inc., under the Act of January 2, 1976, as amended. Any land described herein that is not conveyed will continue to be subject to the terms and conditions of Public Land Order No. 5186, as amended, and any other withdrawal or segregation of record.

EFFECTIVE DATE: October 8, 2002.

FOR FURTHER INFORMATION CONTACT: Robbie J. Havens, Bureau of Land Management, Alaska State Office, 222 W. 7th Avenue, No. 13, Anchorage, Alaska 99513-7599, 907-271-5477.

Order

By virtue of the authority vested in the Secretary of the Interior by Section 204 of the Federal Land Policy and Management Act of 1976, 43 U.S.C. 1714 (1994), and by Section 17(d)(1) of the Alaska Native Claims Settlement Act, 43 U.S.C. 1616(d)(1) (1994), it is ordered as follows:

1. Public Land Order No. 2713, as amended, which withdrew public lands for air navigation purposes, is hereby revoked insofar as it affects the following described land:

Seward Meridian

T. 26 N., R. 4 W.,

Sec. 31, W½SE¼NW¼ and NW¼NE¼SW¼.

The area described contains 30 acres.

2. Subject to valid existing rights, the land is classified for conveyance to Cook Inlet Region, Inc., under the Act of January 2, 1976, as amended, 43 U.S.C. 1611 (note) (1994). Any land not conveyed will continue to be subject to the terms and conditions of Public Land Order No. 5186, as amended, and any other withdrawal or segregation of record.

Dated: September 13, 2002.
Rebecca W. Watson,
Assistant Secretary—Land and Minerals Management.

[FR Doc. 02-25579 Filed 10-7-02; 8:45 am]

BILLING CODE 4310-JA-P